DEPARTMENT OF TRANSPORTATION

Surface Transportation Board

[STB Finance Docket No. 33865]

Illinois & Midland Railroad, Inc.—Trackage Rights Exemption—Union Pacific Railroad Company

Union Pacific Railroad Company (UP) has agreed to grant nonexclusive bridge trackage rights to Illinois & Midland Railroad, Inc. (I&M) approximately from milepost 8.9, at the Illinois River Bridge, to milepost 51.0, at Barr, IL, a distance of approximately 42.1 miles.

The transaction is scheduled to be consummated on or after March 20, 2000.

The purpose of the trackage rights is to promote operating efficiencies by providing I&M with an alternate route between Springfield, IL, and UP's Illinois River Bridge.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33865, must be filed with the Surface Transportation Board, Office of the Secretary, Case Control Unit, 1925 K Street, N.W., Washington, DC 20423-0001. In addition, one copy of each pleading must be served on Rose-Michele Weinryb, Esq., Weiner, Brodsky, Sidman & Kider, P.C., 1350 New York Avenue, N.W., Suite 800, Washington, DC 20005-4797.

Board decisions and notices are available on our website at

“WWW.STB.DOT.GOV.”

Decided: March 27, 2000.
By the Board, David M. Konschnik, Director, Office of Proceedings.
Vernon A. Williams,
Secretary.

[FR Doc. 00-8016 Filed 3-30-00; 8:45 am]

BILLING CODE 4915-00-P